DEPARTMENT OF HEALTH AND HUMAN SERVICES

Centers for Disease Control and Prevention

[30DAY-28-03]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: Reader Evaluation of ATSDR Agency Profile and Annual Report—New—The Agency for Toxic Substances and Disease Registry (ATSDR) publishes an agency profile and annual report every fiscal year to highlight the agency's major activities and findings. The report provides a record of the agency's significant accomplishments in meeting its mandates under the Comprehensive Environmental Response, Compensation, and Liability Act (CERCLA), as amended, and other federal statutes. The annual report gives a snapshot of the agency's activities for the fiscal year. It is distributed to our partners in state, Federal, and other agencies; to researchers; schools of public health; and other interested groups. It is also available on the ATSDR Internet Web site and by request.

ATSDR staff has developed a reader survey to get readers' opinions and suggestions about the agency annual report. The survey will be inserted and mailed with each annual report. An online version of the reader survey will be available on the ATSDR Web site. The survey will collect information on the readability and effectiveness of the report, the affiliation of the readers, and any suggestions on improving readability or content.

It is anticipated that the reader survey will provide important feedback that will enable ATSDR staff to better tailor future reports to the needs of its readers. Gathering reader feedback will ensure that appropriate information is included in the document to provide a good overview of the agency's activities. The information will be used to improve customer satisfaction related to the annual report. The annualized estimated burden is 41 hours.

Respondents | Number of respondents | Number of responses/respondent | Avg. burden/response (in hours)
Academia | 100 | 1 | 5/60
State and Local Government Staff | 100 | 1 | 5/60
General Public | 300 | 1 | 5/60

Dated: February 25, 2003.
Thomas A. Bartenfeld,
Acting Associate Director for Policy, Planning and Evaluation, Centers for Disease Control and Prevention.

[FR Doc. 03-4983 Filed 3-3-03; 8:45 am]

BILLING CODE 4163-18-P